ENVIRONMENTAL PROTECTION AGENCY

[OCS-EPA-R4008; OCS-EPA-R4009; OCS-EPA-R4007-M1; FRL-9701-2]

Notice of Issuance of Final Air Permits for BHP Billiton Petroleum, Inc., Murphy Exploration and Production Co., and Eni US Operating Co., Inc.

AGENCY: Environmental Protection Agency (EPA).

ACTION: Notice of final action.

SUMMARY: This notice is to announce that on May 11, 2012, EPA issued a final Outer Continental Shelf (OCS) air permit for Murphy Exploration and Production Co. (Murphy), and on May 30, 2012, EPA issued a final OCS air permit for BHP Billiton Petroleum, Inc., (BHPB). These permits became effective on June 11, 2012, and June 30, 2012, respectively. In addition, EPA issued a final OCS air permit modification for Eni US Operating Company, Inc. (Eni) on May 8, 2012 that was effective on May 11, 2012.

The Murphy permit regulates air pollutant emissions from the Diamond Offshore Ocean Confidence drilling vessel and support vessels, which Murphy intends to operate within lease block Lloyd Ridge 317 on the OCS in the Gulf of Mexico, approximately 135 miles southeast of the mouth of the Mississippi River and 180 miles south of the nearest Florida coast.

The BHPB permit regulates air pollutant emissions from one of two drilling vessels owned by Transocean, either the C.R. Luigs or the Development Driller 1, and support vessels, which BHPB intends to operate in multiple locations in BHPB's DeSoto Canyon lease blocks on the OCS in the Gulf of Mexico, approximately 120 miles southeast of the mouth of the Mississippi River and 125 miles from the nearest Alabama and Florida coast.

The Eni permit regulates air pollutant emissions from the Transocean Pathfinder drilling vessel and support vessels, which Eni intends to operate within lease block Lloyd Ridge 411 on the OCS in the Gulf of Mexico, approximately 154 miles southeast of the mouth of the Mississippi River and 189 miles south of the nearest Florida coast. All three operations will last less than two years, and based on applicable permitting regulations, are “temporary sources” for permitting purposes.

ADDRESSES: The final permits, EPA's response to the public comments for the Murphy and BHPB permits, and additional supporting information are available at http://www.epa.gov/region4/air/permits/index.htm. Copies of the final permits and EPA's response to comments are also available for review at EPA Regional Office and upon request in writing. EPA requests that you contact the person listed in the FOR FURTHER INFORMATION CONTACT section to schedule your inspection. The Regional Office's official hours of business are Monday through Friday, 8:30 to 4:30 excluding federal holidays.

FOR FURTHER INFORMATION CONTACT: Ms. Kelly Fortin, Air Permits Section, Air Planning Branch, Air, Pesticides and Toxics Management Division, Region 4, U.S. Environmental Protection Agency, 61 Forsyth Street, SW., Atlanta, Georgia 30303-8960. The telephone number is (404) 562-9117. Ms. Fortin can also be reached via electronic mail at fortin.kelly@epa.gov.

SUPPLEMENTARY INFORMATION: On February 29, 2012, the EPA Region 4 Office requested public comments on a proposal to issue an OCS air permit for Murphy. During the public comment period, which ended on March 30, 2012, EPA received comments from Murphy. Also, on April 4, 2012, the EPA Region 4 Office requested public comments on a proposal to issue an OCS air permit for BHPB. During the public comment period, which ended on May 7, 2012, EPA received comments from BHPB. EPA carefully reviewed each of the comments submitted, and after consideration of the expressed view of all interested persons, the pertinent federal statutes and regulations, the applications and additional material relevant to the applications and contained in the administrative record, EPA made a decision in accordance with 40 CFR 52.21, 40 CFR part 71 (in the case of BHPB) and 40 CFR part 55 to issue the final OCS permits.

On March 23, 2012, EPA Region 4 requested public comments on a preliminary determination to grant Eni's request, pursuant to 40 CFR 55.7, for an exemption for two crane engines from 40 CFR part 60 subpart IIII (NSPS for Stationary Compression Ignition Internal Combustion Engines), which resulted in an OCS air permit minor modification for Eni. EPA received no comments during the public comment period, which ended on April 23, 2012. EPA determined in accordance with 40 CFR 52.21, 40 CFR part 71 and 40 CFR part 55 to grant Eni's exemption request and finalize the proposed minor permit modification.

Under 40 CFR 124.19(f)(2), notice of any final Agency action regarding a prevention of significant deterioration (PSD) permit must be published in the Federal Register. Section 307(b)(1) of the CAA provides for review of final Agency action that is locally or regionally applicable in the United States Court of Appeals for the appropriate circuit. Such a petition for review of final Agency action must be filed within 60 days from the date of notice of such action in the Federal Register. For purposes of judicial review under the CAA, final Agency action occurs when a final PSD permit is issued or denied by EPA and Agency review procedures are exhausted, per 40 CFR 124.19(f)(1).

Any person who filed comments on the draft Murphy permit was provided the opportunity to petition the Environmental Appeals Board by June 11, 2012, and any person who filed comments on the draft BHPB permit was provided the opportunity to petition the Environmental Appeals Board by June 30, 2012. No petitions were submitted; therefore the Murphy permit became effective on June 11, 2012, and the BHPB permit became effective of June 30, 2012. No person filed comments on the draft Eni permit modification; therefore the permit became effective on May 11, 2012.

Dated: July 5, 2012.
Douglas Neeley,
Acting Director, Air, Pesticides and Toxics Management Division, Region 4.

[FR Doc. 2012-18021 Filed 7-23-12; 8:45 am]

BILLING CODE 6560-50-P